DEPARTMENT OF TRANSPORTATION

Federal Aviation Administration

Avionics Manufacturers Standardization Meeting

AGENCY: Federal Aviation Administration, DOT.

ACTION: Notice of avionics manufacturers standardization meeting.

SUMMARY: Notice is hereby given that the Small Airplane Directorate of the Federal Aviation Administration (FAA) is hosting a meeting on October 30, 2002, for Avionics Manufacturers to discuss and identify a minimum number of standardized “essential functions” for electronic flight information systems (EFIS) emerging in the general aviation market.

FOR FURTHER INFORMATION CONTACT: Direct all questions to: Lowell Foster, Aerospace Engineer, FAA, Small Airplane Directorate, 901 Locust, room 301, Kansas City, Missouri 64106; telephone: (816) 329-4125; facsimile: (816) 329-4090; e-mail at <lowell.foster@faa.gov>.

SUPPLEMENTARY INFORMATION: Manufacturers and other interested persons are invited to assist the FAA's Small Airplane Directorate in identifying a minimum number of standardized “essential functions” for EFIS including, but not limited to, global positioning systems (GPS), multifunction displays (MFDs), and primary flight display (PFDs).

The meeting is scheduled for October 30, 2002, in Kansas City, Missouri, with the specific location to be identified later. More information about the meeting agenda and location will be available at: <http://www.faa.gov/certification/aircraft/small_airplane_directorate_news.htm>.

Issued in Kansas City, Missouri, on August 21, 2002.
David R. Showers,
Acting Manager, Small Airplane Directorate, Aircraft Certification Service.

[FR Doc. 02-22268 Filed 8-29-02; 8:45 am]

BILLING CODE 4910-13-P